DEPARTMENT OF TRANSPORTATION

Federal Aviation Administration

14 CFR Part 39

[Docket No. FAA-2010-0680; Directorate Identifier 2008-NM-195-AD]

RIN 2120-AA64

Airworthiness Directives; Airbus Model A310 Series Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: Analysis performed in the frame of the Extended Service Goal has led Airbus to modify the inspection programme [modification of thresholds, intervals and associated configurations] which is currently required by DGAC (Direction Générale de l'Aviation Civile) France AD F-2005-001. This modified inspection programme is necessary to detect and prevent damage associated with a structural fatigue phenomenon of the rear spar internal angle and the tee fitting located in the centre wing box. This condition, if not corrected, could affect the structural integrity of the centre wing box. The unsafe condition is reduced structural integrity of the wings. The proposed AD would require actions that are intended to address the unsafe condition described in the MCAI.

DATES: We must receive comments on this proposed AD by August 27, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone: +33 5 61 93 36 96; fax: +33 5 61 93 44 51; e-mail: account.airworth-eas@airbus.com; Internet: http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to send any written relevant data, views, or arguments about this proposed AD. Send your comments to an address listed under the ADDRESSES section. Include “Docket No. FAA-2010-0680; Directorate Identifier 2008-NM-195-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov; including any personal information you provide. We will also post a report summarizing each substantive verbal contact we receive about this proposed AD.

Discussion

On April 20, 2006, we issued AD 2006-09-05, Amendment 39-14575 (71 FR 25921, May 3, 2006). That AD required actions intended to address an unsafe condition on the products listed above.

Since we issued AD 2006-09-05, the manufacturer has modified the inspection program currently required by AD 2006-09-05 by reducing certain compliance times. The European Aviation Safety Agency (EASA), which is the Technical Agent for the Member States of the European Community, has issued EASA Airworthiness Directive 2008-0187, dated October 10, 2008 (referred to after this as “the MCAI”), to correct an unsafe condition for the specified products. The MCAI states:

Analysis performed in the frame of the Extended Service Goal has led Airbus to modify the inspection programme [modification of thresholds, intervals and associated configurations] which is currently required by DGAC (Direction Générale de l'Aviation Civile) France AD F-2005-001 [which corresponds to FAA AD 2006-09-05].

This modified inspection programme is necessary to detect and prevent damage associated with a structural fatigue phenomenon of the rear spar internal angle and the tee fitting located in the centre wing box. This condition, if not corrected, could affect the structural integrity of the centre wing box.

For the reason stated above, this new EASA AD retains the requirements of DGAC France AD F-2005-001, which is superseded, and refers to the latest revision of Airbus Service Bulletin (SB) A310-57-2047.

The unsafe condition is reduced structural integrity of the wings. This AD retains the requirements of AD 2006-09-05, but with certain reduced compliance times. The required actions include doing repetitive rotating probe inspections for any crack of the rear spar internal angle and the left and right sides of the tee fitting, and doing related investigative/corrective actions if necessary. The actions also include modifying the holes in the internal angle and tee fitting by cold expansion. You may obtain further information by examining the MCAI in the AD docket.

Relevant Service Information

Airbus has issued Service Bulletin A310-57-2047, Revision 08, dated July 2, 2009; and Mandatory Service Bulletin A310-57-2035, Revision 10, dated March 25, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 66 products of U.S. registry.

The actions that are required by AD 2006-09-05 and retained in this proposed AD take up to 600 work-hours per product, at an average labor rate of $85 per work hour. Required parts cost up to $38,900 per product. Based on these figures, the estimated cost of the currently required actions is up to $89,900 per product.

This new AD adds no new costs to affected operators; the manufacturer has modified the inspection program currently required by AD 2006-09-05, this proposed AD reduces the compliance times required by the existing AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14575 (71 FR 25921, May 3, 2006) and adding the following new AD:

Airbus: Docket No. FAA-2010-0680; Directorate Identifier 2008-NM-195-AD.

Comments Due Date

(a) We must receive comments by August 27, 2010.

Affected ADs

(b) This AD supersedes AD 2006-09-05, Amendment 39-14575. This AD also affects certain requirements of AD 98-26-01, Amendment 39-10942.

Applicability

(c) This AD applies to all Airbus Model A310-203, -204, -221, -222, -304, -322, -324, and -325 airplanes, certificated in any category.

Subject

(d) Air Transport Association (ATA) of America Code 57: Wings.

Reason

(e) The mandatory continuing airworthiness information (MCAI) states:

Analysis performed in the frame of the Extended Service Goal has led Airbus to modify the inspection programme [modification of thresholds, intervals and associated configurations] which is currently required by DGAC (Direction Générale de l'Aviation Civile) France AD F-2005-001 [which corresponds to FAA AD 2006-09-05].

This modified inspection programme is necessary to detect and prevent damage associated with a structural fatigue phenomenon of the rear spar internal angle and the tee fitting located in the centre wing box. This condition, if not corrected, could affect the structural integrity of the centre wing box.

The unsafe condition is reduced structural integrity of the wings.

Compliance

(f) You are responsible for having the actions required by this AD performed within the compliance times specified, unless the actions have already been done.

RESTATEMENT OF CERTAIN REQUIREMENTS OF AD 2006-09-05 MODIFICATION

(g) For all airplanes except those that are modified by Airbus Modifications 06672S6812, 06673S6813, and 07387S7974 in production: Within 60 months after June 7, 2006 (the effective date of AD 2006-09-05), modify the holes in the internal angle and tee fitting and do all applicable related investigative and corrective actions by accomplishing all the actions specified in the Accomplishment Instructions of Airbus Service Bulletin A310-57-2035, Revision 08, dated September 19, 2005; or Airbus Mandatory Service Bulletin A310-57-2035, Revision 10, dated March 25, 2008; except as required by paragraph (h) of this AD. Do all applicable related investigative and corrective actions before further flight. As of the effective date of this AD, use only Airbus Mandatory Service Bulletin A310-57-2035, Revision 10, dated March 25, 2008.

Contact the FAA

(h) Where the service information specified in Table 1 of this AD specifies to contact the manufacturer if certain cracks are found, before further flight, repair those conditions according to a method approved by either the Manager, International Branch, ANM-116, Transport Airplane Directorate, FAA; or the Direction Générale de l'Aviation Civile (DGAC) (or its delegated agent); or EASA (or its delegated agent).

Table 1—Service Information
Document | Revision | Date
Airbus Mandatory Service Bulletin A310-57-2035 | 10 | March 25, 2008.
Airbus Service Bulletin A310-57-2035 | 08 | September 19, 2005.

Actions Accomplished According to Previous Issues of Airbus Service Bulletin A310-57-2035

(i) Actions accomplished before June 7, 2006, in accordance with the service information specified in Table 2 of this AD, are considered acceptable for compliance with the corresponding actions specified in paragraph (g) of this AD.

Table 2—Previous Issues of Service Bulletin A310-57-2035
Document | Revision | Date
Airbus Service Bulletin A310-57-2035 | 1 | October 13, 1989.
Airbus Service Bulletin A310-57-2035 | 2 | February 26, 1990.
Airbus Service Bulletin A310-57-2035 | 3 | May 23, 1990.
Airbus Service Bulletin A310-57-2035 | 4 | April 15, 1992.
Airbus Service Bulletin A310-57-2035 | 5 | May 27, 1992.
Airbus Service Bulletin A310-57-2035 | 6 | March 8, 1994.
Airbus Service Bulletin A310-57-2035 | 7 | April 17, 1996.

NEW REQUIREMENTS OF THIS AD—REVISED COMPLIANCE TIMES FOR INSPECTIONS REQUIRED BY AD 2006-09-05

Initial and Repetitive Inspections of the Rear Spar Internal Angle

(j) For airplanes on which an inspection of the rear spar internal angle has not been done in accordance with Airbus Service Bulletin A310-57-2047 as of the effective date of this AD: At the later of the times specified in paragraphs (j)(1) and (j)(2) of this AD, do a rotating probe inspection for any crack of the rear spar internal angle located in the center wing box and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 4 of this AD. Certain compliance times are applicable to short range use, average flight time (AFT) equal to or less than 4 hours, or long range use, AFT exceeding 4 hours.

Note 1: To establish the AFT, divide the accumulated flight time (counted from the take-off up to the landing) by the number of accumulated flight cycles. This gives the average flight time per flight cycle.

(1) Within the applicable time specified in Table 3 of this AD.

(2) Within the applicable time specified in paragraph (j)(2)(i), (j)(2)(ii), or (j)(2)(iii) of this AD:

(i) For A310-203, -204, -221, and -222 airplanes: Within 700 flight cycles or 1,500 flight hours after the effective date of this AD, whichever occurs first.

(ii) For A310-304, -322, -324, and -325 short range airplanes: Within 700 flight cycles or 1,900 flight hours after the effective date of this AD, whichever occurs first.

(iii) For A310-304, -322, -324, and -325 long range airplanes: Within 500 flight cycles or 2,500 flight hours after the effective date of this AD, whichever occurs first.

Table 3—Initial Inspection Internal Angle
Model and configuration | Compliance time (whichever occurs first)
A310-203, -204, -221, and -222 airplanes on which Mod 6672S6812 and Mod 7387S7974 are not done | Before the accumulation of 9,200 total flight cycles | Before the accumulation of 18,500 total flight hours.
A310-203, -204, -221, and -222 airplanes on which Mod 6672S6812 and Mod 7387S7974 are done in production | Before the accumulation of 19,800 total flight cycles | Before the accumulation of 39,600 total flight hours.
A310-203, -204, -221, and -222 airplanes on which Mod 6672S6812 and Mod 7387S7974 are done in accordance with Airbus Service Bulletin A310-57-2035 and before the accumulation of 6,200 total flight cycles and 12,500 total flight hours | Within 19,800 flight cycles after the effective date of this AD | Within 39,600 flight hours after the effective date of this AD.
A310-203, -204, -221, and -222 airplanes on which Mod 6672S6812 and Mod 7387S7974 are done in accordance with Airbus Service Bulletin A310-57-2035 and are not done before the accumulation of 6,200 total flight cycles and 12,500 total flight hours | Within 8,200 flight cycles after the effective date of this AD | Within 16,400 flight hours after the effective date of this AD.
A310-304, -322, -324, and -325 short range airplanes on which Mod 6672S6812 and Mod 7387S7974 are not done | Before the accumulation of 7,500 total flight cycles | Before the accumulation of 21,100 total flight hours.
A310-304, -322, -324, and -325 long range airplanes on which Mod 6672S6812 and Mod 7387S7974 are not done | Before the accumulation of 5,300 total flight cycles | Before the accumulation of 26,900 total flight hours.
A310-304, -322, -324, and -325 short range airplanes on which Mod 6672S6812 and Mod 7387S7974 are done | Before the accumulation of 15,900 total flight cycles | Before the accumulation of 44,700 total flight hours.
A310-304, -322, -324, and -325 long range airplanes on which Mod 6672S6812 and Mod 7387S7974 are done in production | Before the accumulation of 11,300 total flight cycles | Before the accumulation of 56,900 total flight hours.
A310-304, -322, -324, and -325 short range airplanes on which Mod 6672S6812 and Mod 7387S7974 are done in accordance with Airbus Service Bulletin A310-57-2035 and before the accumulation of 4,700 total flight cycles and 13,100 total flight hours | Within 15,900 flight cycles after the effective date of this AD | Within 44,700 flight hours after the effective date of this AD.
A310-304, -322, -324, and -325 short range airplanes on which Mod 6672S6812 and Mod 7387S7974 are done in accordance with Airbus Service Bulletin A310-57-2035 and not done before the accumulation of 4,700 total flight cycles and 13,100 total flight hours | Within 8,500 flight cycles after the effective date of this AD | Within 23,800 flight hours after the effective date of this AD.
A310-304, -322, -324, and -325 long range airplanes on which Mod 6672S6812 and Mod 7387S7974 are done in accordance with Airbus Service Bulletin A310-57-2035 before the accumulation of 3,300 total flight cycles and 16,700 total flight hours | Within 11,300 flight cycles after the effective date of this AD | Within 56,900 flight hours after the effective date of this AD.
A310-304, -322, -324, and -325 long range airplanes on which Mod 6672S6812 and Mod 7387S7974 are done in accordance with Airbus Service Bulletin A310-57-2035 and not done before the accumulation of 3,300 total flight cycles and 16,700 total flight hours | Within 6,000 flight cycles after the effective date of this AD | Within 30,300 flight hours after the effective date of this AD.

Table 4—Repetitive Intervals
Model and configuration | Interval (not to exceed)
A310-203, -204, -221, and -222 airplanes | Within 7,200 flight cycles or 14,400 flight hours, whichever occurs first.
A310-304, -322, -324, and -325 short range airplanes | Within 6,800 flight cycles or 19,100 flight hours, whichever occurs first.
A310-304, -322, -324, and -325 long range airplanes | Within 4,800 flight cycles or 24,300 flight hours, whichever occurs first.

(k) For airplanes on which an inspection of the rear spar internal angle has been done in accordance with Airbus Service Bulletin A310-57-2047 as of the effective date of this AD: At the applicable time specified in paragraphs (k)(1), (k)(2), and (k)(3) of this AD, do a rotating probe inspection for any crack of the rear spar internal angle located in the center wing box and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 4 of this AD. Certain compliance times are applicable to short range use, AFT equal to or less than 4 hours, or long range use, AFT exceeding 4 hours.

(1) For A310-203, -204, -221, and -222 airplanes: At the earlier of the times specified in paragraphs (k)(1)(i) and (k)(1)(ii) of this AD.

(i) Within 7,940 flight cycles or 15,880 flight hours after the most recent inspection, whichever occurs first.

(ii) At the later of the times specified in paragraphs (k)(1)(ii)(A) and (k)(1)(ii)(B) of this AD.

(A) Within the applicable interval specified in Table 4 of this AD.

(B) Within 740 flight cycles or 1,480 flight hours after the effective date of this AD, whichever occurs first.

(2) For A310-304, -322, -324, and -325 short range airplanes: At the later of the times specified in paragraphs (k)(2)(i) and (k)(2)(ii) of this AD.

(i) Within the applicable interval specified in Table 4 of this AD.

(ii) Within 700 flight cycles or 1,900 flight hours after the effective date of this AD, whichever occurs first.

(3) For A310-304, -322, -324, and -325 long range airplanes: At the later of the times specified in paragraphs (k)(3)(i) and (k)(3)(ii) of this AD.

(i) Within the applicable interval specified in Table 4 of this AD.

(ii) Within 500 flight cycles or 2,500 flight hours after the effective date of this AD, whichever occurs first.

Initial and Repetitive Inspections of the Tee Fitting

(l) For airplanes on which an inspection of the left and right sides of the tee fitting has not been done in accordance with Airbus Service Bulletin A310-57-2047 as of the effective date of this AD: At the later of the times specified in paragraphs (l)(1) and (l)(2) of this AD, do a rotating probe inspection for any crack of the left and right sides of the tee fitting, and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 6 of this AD. Certain compliance times are applicable to short range use, AFT equal to or less than 4 hours, or long range use, AFT exceeding 4 hours.

(1) Within the applicable time specified in Table 5 of this AD.

(2) Within the applicable time in paragraph (l)(2)(i), (l)(2)(ii), or (l)(2)(iii) of this AD.

(i) For A310-203, -204, -221, and -222 airplanes: Within 800 flight cycles or 1,600 flight hours, whichever occurs first.

(ii) For A310-304, -322, -324, and -325 short range airplanes: Within 800 flight cycles or 2,200 flight hours, whichever occurs first.

(iii) For A310-304, -322, -324, and -325 long range airplanes: Within 600 flight cycles or 3,100 flight hours, whichever occurs first.

Table 5—Initial Inspection Tee Fitting
Model and configuration | Compliance time (whichever occurs first)
A310-203, -204, -221, and -222 airplanes on which Mod 6673S6813 is not done | Before the accumulation of 14,300 flight cycles | Within 28,700 flight hours after the effective date of this AD.
A310-203, -204, -221, and -222 airplanes on which Mod 6673S6813 is done in production | Before the accumulation of 17,500 total flight cycles | Before the accumulation of 35,000 total flight hours.
A310-203, -204, -221, and -222 airplanes on which Mod 6673S6813 is done in accordance with Airbus Service Bulletin A310-57-2035 and before the accumulation of 8,100 total flight cycles and 16,200 total flight hours | Within 17,500 flight cycles after the effective date of this AD | Within 35,000 flight hours after the effective date of this AD.
A310-203, -204, -221, and -222 airplanes on which Mod 6673S6813 is done in accordance with Airbus Service Bulletin A310-57-2035 and not before the accumulation of 8,100 total flight cycles and 16,200 total flight hours | Within 9,600 flight cycles after the effective date of this AD | Within 19,200 flight hours after the effective date of this AD.
A310-304, -322, -324, and -325 short range airplanes on which Mod 6673S6813 is not done | Within 10,800 flight cycles after the effective date of this AD | Within 30,400 flight hours after the effective date of this AD.
A310-304, -322, -324, and -325 long range airplanes on which Mod 6673S6813 is not done | Before the accumulation of 8,500 total flight cycles | Before the accumulation of 42,800 total flight hours.
A310-304, -322, -324, and -325 short range airplanes on which Mod 6673S6813 is done in production | Before the accumulation of 13,100 total flight cycles | Before the accumulation of 36,700 total flight hours.
A310-304, -322, -324, and -325 long range airplanes on which Mod 6673S6813 is done in production | Before the accumulation of 10,300 total flight cycles | Before the accumulation of 51,600 total flight hours.
A310-304, -322, -324, and -325 short range airplanes on which Mod 6673S6813 is done in accordance with Airbus Service Bulletin A310-57-2035 and before the accumulation of 5,800 total flight cycles and 16,400 total flight hours | Within 13,100 flight cycles after the effective date of this AD | Within 36,700 flight hours after the effective date of this AD.
A310-304, -322, -324, and -325 short range airplanes on which Mod 6673S6813 is done in accordance with Airbus Service Bulletin A310-57-2035 and not before the accumulation of 5,800 total flight cycles and 16,400 total flight hours | Within 7,400 flight cycles after the effective date of this AD | Within 20,900 flight hours after the effective date of this AD.
A310-304, -322, -324, and -325 long range airplanes on which Mod 6673S6813 is done in accordance with Airbus Service Bulletin A310-57-2035 and before the accumulation of 4,600 total flight cycles and 23,100 total flight hours | Within 10,300 flight cycles after the effective date of this AD | Within 51,600 flight hours after the effective date of this AD.
A310-304, -322, -324, and -325 long range airplanes on which Mod 6673S6813 is done in accordance with Airbus Service Bulletin A310-57-2035 and not before the accumulation of 4,600 total flight cycles and 23,100 total flight hours | Within 6,000 flight cycles after the effective date of this AD | Within 30,300 flight hours after the effective date of this AD.

Table 6—Repetitive Intervals
Model and configuration | Interval (not to exceed)
A310-203, -204, -221, and -222 airplanes | 9,100 flight cycles or 18,300 flight hours, whichever occurs first.
A310-304, -322, -324, and -325 short range airplanes | 7,300 flight cycles or 20,400 flight hours, whichever occurs first.
A310-304, -322, -324, and -325 long range airplanes | 5,900 flight cycles or 29,600 flight hours, whichever occurs first

(m) For airplanes on which an inspection of the rear left and right sides of the tee fitting has been done in accordance with Airbus Service Bulletin A310-57-2047 as of the effective date of this AD: At the applicable time specified in paragraphs (m)(1) or (m)(2) of this AD, do a rotating probe inspection for any crack of the left and right sides of the tee fitting, and do all applicable related investigative and corrective actions, in accordance with the Accomplishment Instructions of Airbus Service Bulletin A310-57-2047, Revision 08, dated July 2, 2009; except as required by paragraphs (n) and (o) of this AD. Do all applicable related investigative and corrective actions before further flight. Repeat the inspection thereafter at the applicable time specified in Table 6 of this AD. Certain compliance times are applicable to short range use, AFT equal to or less than 4 hours, or long range use, AFT exceeding 4 hours.

(1) For A310-203, -204, -221, and -222 airplanes: At the earlier of the times specified in paragraphs (m)(1)(i) and (m)(1)(ii) of this AD.

(i) Within 10,800 flight cycles or 17,400 flight hours after the most recent inspection, whichever occurs first.

(ii) At the later of the times specified in paragraphs (m)(1)(ii)(A) and (m)(1)(ii)(B) of this AD.

(A) Within the applicable interval specified in Table 6 of this AD.

(B) Within 700 flight cycles or 1,500 flight hours after the effective date of this AD, whichever occurs first.

(2) For A310-304, -322, -324, and -325 airplanes: At the later of the times specified in paragraphs (m)(2)(i) and (m)(2)(ii) of this AD.

(i) Within the applicable interval specified in Table 6 of this AD.

(ii) Within 700 flight cycles or 1,900 flight hours after the effective date of this AD, whichever occurs first.

Contact the FAA

(n) Where Airbus Service Bulletin A310-57-2047, Revision 08, dated July 2, 2009, specifies to contact the manufacturer if certain cracks are found, before further flight, repair those conditions according to a method approved by either the Manager, International Branch, ANM-116, Transport Airplane Directorate, FAA; or EASA (or its delegated agent).

No Reporting Required

(o) Although Airbus Service Bulletin A310-57-2047, Revision 06, dated July 13, 2004; and Revision 08, dated July 2, 2009; specify to submit certain information to the manufacturer, this AD does not include that requirement.

(p) Actions accomplished before the effective date of this AD in accordance with Airbus Mandatory Service Bulletin A310-57-2035, Revision 09, dated September 27, 2007, are considered acceptable for compliance with the corresponding actions specified in paragraph (g) of this AD.

(q) Actions accomplished before the effective date of this AD in accordance with the service information specified in Table 7 of this AD, are considered acceptable for compliance with the corresponding actions specified in paragraphs (j) through (m) of this AD.

Table 7—Previous Issues of Service Bulletin A310-57-2047
Document | Revision | Date
Airbus Service Bulletin A310-57-2047 | 03 | November 26, 1997.
Airbus Service Bulletin A310-57-2047 | 04 | March 5, 1999.
Airbus Service Bulletin A310-57-2047 | 05 | August 3, 2000.
Airbus Service Bulletin A310-57-2047 | 06 | July 13, 2004.
Airbus Service Bulletin A310-57-2047 | 07 | March 14, 2008.

Related AD

(r) Accomplishing a rotating probe inspection of the rear spar internal angle and the tee fitting in accordance with Airbus Service Bulletin A310-57-2047, Revision 08, dated July 2, 2009, or a service bulletin listed in Table 7 of this AD, terminates the requirements specified in paragraph (o) of AD 98-26-01.

FAA AD Differences

Note 2: This AD differs from the MCAI and/or service information as follows:

Although the MCAI or service information tells you to contact the manufacturer for repair information, paragraph (n) of this AD requires that you contact the FAA or EASA (or its delegated agent) instead. Although the MCAI or service information tells you to submit information to the manufacturer, paragraph (o) of this AD specifies that such submittal is not required.

Other FAA AD Provisions

(s) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, FAA, Transport Airplane Directorate, 1601 Lind Avenue, SW., Renton, Washington 98055-4056; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) AMOCs approved previously in accordance with AD 2006-09-05, Amendment 39-14575, are approved as AMOCs for the corresponding provisions of this AD.

(3) Airworthy Product: For any requirement in this AD to obtain corrective actions from a manufacturer or other source, use these actions if they are FAA-approved. Corrective actions are considered FAA-approved if they are approved by the State of Design Authority (or their delegated agent). You are required to assure the product is airworthy before it is returned to service.

Related Information

(t) Refer to MCAI EASA Airworthiness Directive 2008-0187, dated October 10, 2008; and Airbus Service Bulletins A310-57-2047, Revision 08, dated July 2, 2009; and Airbus Mandatory Service Bulletin A310-57-2035, Revision 10, dated March 25, 2008; for related information.

Issued in Renton, Washington, on June 30, 2010.
Todd G. Dixon,
Acting Manager, Transport Airplane Directorate, Aircraft Certification Service.

[FR Doc. 2010-17061 Filed 7-12-10; 8:45 am]

BILLING CODE 4910-13-P